ENVIRONMENTAL PROTECTION AGENCY

[FRL-7146-9]

Proposed CERCLA Administrative Order on Consent for Remedial Investigation/Feasibility Study—Bountiful/Woods Cross/5th South PCE Plume NPL Site, Woods Cross, Davis County, UT

AGENCY: Environmental Protection Agency (EPA).

ACTION: Notice and request for public comment.

SUMMARY: In accordance with the requirements of section 122(h)(1) of the Comprehensive Environmental Response, Compensation, and Liability Act, as amended (“CERCLA”), 42 U.S.C. 9622(h)(1), notice is hereby given of the proposed administrative settlement under section 122(h) of CERCLA, 42 U.S.C. 9622(h), between EPA and W.S. Hatch Company (“Settling Party”) regarding the W.S. Hatch facility (the “Facility”). The property which is the subject of this proposed Consent Order is a parcel of land approximately three acres in size and is located at approximately 643 South and 800 West in Woods Cross, Davis County, Utah. The settlement, embodied in the proposed Administrative Order on Consent for Remedial Investigation/ Feasibility Study (“RI/FS”), EPA Docket No. CERCLA-8-2001-14 (“AOC”), is intended to resolve the Settling Party's liability at the Site for and all response costs incurred and paid, or to be incurred and paid, by EPA in connection with the work performed at the Site as provided for in the AOC.

W.S. Hatch Company is the owner of a parcel of land which has been impacted by business operations at the Hatchco Facility and is included within the defined boundaries of the Site. The proposed AOC will resolve Settling Party's liability under section 107(a)(1) of CERCLA, 42 U.S.C. 9607(a)(1). Under the terms of the proposed AOC, the Settling Party agrees to conduct a RI/FS on the Settling Party's property. In exchange, the Settling Party will settle its liability for all response costs incurred and paid, or to be incurred and paid, at the Site in connection with the work performed at the Site as provided for in the AOC.

Opportunity for Comment: For thirty (30) days following the date of publication of this notice, the Agency will consider all comments received on the Reimbursement of Response and Oversight Costs portion of the AOC only (Section XXII) and may modify or withdraw its consent to the settlement if comments received disclose facts or considerations which indicate that the settlement is inappropriate, improper, or inadequate. The Agency's response to any comments received will be available for public inspection at the EPA Superfund Record Center, 999 18th Street, 5th Floor, in Denver, Colorado.

DATES: Comments must be submitted on or before March 21, 2002.

ADDRESSES: The proposed settlement and additional background information relating to the settlement are available for public inspection at the EPA Superfund Records Center, 999 18th Street, 5th Floor, in Denver, Colorado. Comments and requests for a copy of the proposed settlement should be addressed to Carol Pokorny, Enforcement Specialist (8ENF-T), Technical Enforcement Program, U.S. Environmental Protection Agency, 999 18th Street, Suite 300, Denver, Colorado 80202-2466, and should reference the Bountiful/Woods Cross/5th South PCE Plume NPL Site (Hatchco Property), Woods Cross, Davis County, Utah, and the EPA Docket No. CERCLA-8-200-14 (Hatchco AOC).

FOR FURTHER INFORMATION CONTACT: Carol Pokorny, Enforcement Specialist (8ENF-T), Technical Enforcement Program, U.S. Environmental Protection Agency, 999 18th Street, Suite 300, Denver, Colorado 80202-2466, (303) 312-6970.

It is so agreed:
Dated: February 4, 2002.
Carol Rushin,
Assistant Regional Administrator, Office of Enforcement, Compliance and Environmental Justice, Region VIII.

[FR Doc. 02-3923 Filed 2-15-02; 8:45 am]

BILLING CODE 6560-50-P